FEDERAL ELECTION COMMISSION

Sunshine Act Meetings

AGENCY: Federal Election Commission.

DATE AND TIME: Thursday, March 7, 2013 at 3:06 p.m.

PLACE: 999 E Street, NW., Washington, DC (Ninth Floor).

STATUS: This meeting was closed to the public.

ITEMS TO BE DISCUSSED: During the previously announced consideration in a public session of the Petition for Rulemaking submitted by the Center for Individual Freedom, the Commission unanimously voted to close a portion of the meeting so that it could discuss matters concerning participation in civil actions or proceedings. The Commission subsequently returned to public session in order to complete its action on the matter.

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2013-05941 Filed 3-11-13; 4:15 pm]

BILLING CODE 6715-01-P